DEPARTMENT OF COMMERCE

National Oceanic and Atmospheric Administration

[RTID 0648-XE944]

Magnuson-Stevens Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Commercial Fisheries Research Foundation (CFRF). Regulations under the Magnuson-Stevens Fishery Conservation and Management Act and the Atlantic Coastal Fisheries Cooperative Management Act require publication of this notification to provide interested parties the opportunity to comment on applications for proposed EFPs.

DATES: Comments must be received on or before June 16, 2025.

ADDRESSES: You may submit written comments by email at nmfs.gar.efp@noaa.gov. Include in the subject line “CFRF Ventless Trap EFP.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 697.21(c) | Gear specification requirements | To allow for closed escape vents and smaller trap mesh and entrance heads.
§ 697.19(a), (b), (c), and (d) | Trap limit requirements for Areas 1, 2, 3, and 4 | To allow for 3 additional traps per fishing vessel, for a total of 60 additional traps.
§ 697.19(j) | Trap tag requirements | To allow for the use of untagged traps (though each modified trap will have the participating fisherman's identification attached).
§ 697.20(a), (d), (g), and (h)(1) and (2) | Possession restrictions | To allow for onboard biological sampling of undersized, v-notched, and egg-bearing lobsters and undersized and egg-bearing Jonah crabs.

Table 2—Project Summary
Project title | A collaborative fishing vessel approach to addressing data needs for the American lobster and Jonah crab fisheries
Project start | 07/01/2025.
Project end | 05/31/2026.
Project objectives | To continue to provide distribution, abundance, and biological data on juvenile lobsters and Jonah crabs from times and areas with low coverage from traditional surveys.
Project location | Lobster Management Areas 1, 2, 3, and 4.
Number of vessels | Up to 20.
Number of trips | Up to 26 per inshore vessel; up to 36 per offshore vessel (up to 816 total).
Trip duration (days) | Up to 4.
Total number of days | Up to 3,264.
Gear type(s) | Trap.
Number of tows or sets | Up to 2,448.
Duration of tows or sets | 7 days inshore; 10 days offshore.

Project Narrative

This project would continue an ongoing effort to collect data on juvenile lobster and Jonah crab abundance and distribution in areas and times of the year with low or no coverage by traditional surveys. To date, this project has collected data from over 251,000 lobsters and 144,000 Jonah crabs, as well as coupled bottom water temperatures from the Gulf of Maine to the Mid-Atlantic.

The project would include up to 6 inshore vessels (Lobster Management Area 2) and up to 14 offshore vessels (Lobster Management Areas 1, 3, and 4). Each vessel would fish 3 modified, ventless traps designed to capture juvenile lobsters, totaling up to 60 modified traps. Vessels may fish all three ventless traps on one trawl, or may spread them out across two or three trawls. The modified traps would adhere to the standard coastwide survey gear for lobster and Jonah crab set by the Atlantic States Marine Fisheries Commission (ASMFC) and would be fished with standard Atlantic Large Whale Take Reduction Plan-compliant trawls. The traps would remain in the water for up to 12 months and be hauled regularly, following the normal fishing schedule of the participating vessels.

This study would take place during regular fishing activity of the participating vessels, but catch from modified traps would remain separate from that of standard gear. Operators would collect data on size, sex, presence of eggs, and shell hardness for lobsters and Jonah crabs, and v-notch and shell disease for lobsters. Operators would return all specimens from modified gear to the ocean once sampling was complete.

The study is designed to inform management by addressing questions about changing reproduction and recruitment dynamics of lobster and to develop a foundation of knowledge for the data-deficient Jonah crab fishery. CFRF would share data with the Atlantic Coastal Cooperative Statistics Program, the Northeast Fisheries Science Center, ASMFC, and the Rhode Island Department of Environmental Management every 6 months.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 27, 2025.
Kelly Denit,
Director, Office of Sustainable Fisheries, National Marine Fisheries Service.

[FR Doc. 2025-09791 Filed 5-29-25; 8:45 am]

BILLING CODE 3510-22-P